DEPARTMENT OF ENERGY

Federal Energy Regulatory Commission

Notice of Effectiveness of Exempt Wholesale Generator Status

| Docket No.
West Medway II, LLC | EG21-119-000
BMP Wind LLC | EG21-120-000
Kei Mass Energy Storage I, LLC | EG21-121-000
Niyol Wind, LLC | EG21-122-000
Clines Corners Wind Farm LLC | EG21-123-000
Duran Mesa LLC | EG21-124-000
Red Cloud Wind LLC | EG21-125-000
Tecolote Wind LLC | EG21-126-000
Samson Solar Energy III LLC | EG21-127-000
Triple Butte LLC | EG21-128-000
St-Felicien, Societe en commandite | EG21-129-000
Irish Creek Wind, LLC | EG21-130-000
Heartland Divide Wind II, LLC | EG21-131-000
Little Blue Wind Project, LLC | EG21-132-000
Sac County Wind, LLC | EG21-133-000
Minco Wind Energy II, LLC | EG21-134-000
SP Garland Solar Storage, LLC | EG21-135-000
SP Tranquillity Solar Storage, LLC | EG21-136-000
BLCP Power Limited | FC21-3-000
Chaiyaphum Wind Farm Company Limited | FC21-4-000
EGCO Cogeneration Company Limited | FC21-5-000
G-Power Source Company Limited | FC21-6-000
Gulf Power Generation Company Limited | FC21-7-000
Gulf Yala Green Company Limited | FC21-8-000
Nam Theun 2 Power Company Limited | FC21-9-000
Natural Energy Development Company Limited | FC21-10-000
Nong Khae Cogeneration Company Limited | FC21-11-000
Paju Energy Services Company Limited | FC21-12-000
PT Darajat Geothermal Indonesia | FC21-13-000
Roi-Et Green Company Limited | FC21-14-000
San Buenaventura Power Limited Company | FC21-15-000
Solarco Company Limited | FC21-16-000
Star Energy Geothermal Darajat I, Ltd | FC21-17-000
Star Energy Geothermal Darajat II, Ltd | FC21-18-000
Star Energy Geothermal Salak, Ltd | FC21-19-000
Star Energy Geothermal Salak Pratama, Ltd | FC21-20-000
Star Energy Geothermal (Wayang Windu) Ltd | FC21-21-000
Theppana Wind Farm Company Limited | FC21-22-000
Xayaburi Power Company Limited | FC21-23-000
Convergent Canada Companies | FC21-24-000

Take notice that during the month of June 2021, the status of the above-captioned entities as Exempt Wholesale Generators or Foreign Utility Companies became effective by operation of the Commission's regulations. 18 CFR 366.7(a) (2020).

Dated: July 21, 2021.
Debbie-Anne A. Reese,
Deputy Secretary.

[FR Doc. 2021-15925 Filed 7-26-21; 8:45 am]

BILLING CODE 6717-01-P